DEPARTMENT OF AGRICULTURE

Food and Nutrition Service

Agency Information Collection Activities: Proposed Collection; Comment Request—National Universal Product Code (UPC) Database

AGENCY: Food and Nutrition Service (FNS), USDA.

ACTION: Notice.

SUMMARY: In accordance with the Paperwork Reduction Act of 1995, this notice invites the general public and other public agencies to comment on this proposed information collection. This collection is a revision of a currently approved collection for the development and maintenance of a central repository containing information about authorized WIC foods as approved by various WIC State agencies.

DATES: Written comments must be received on or before November 25, 2011.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology. Comments may be sent to: Debra Whitford, Food and Nutrition Service, U.S. Department of Agriculture, 3101 Park Center Drive, Room 520, Alexandria, VA 22302. Comments may also be submitted via e-mail to WICHQ-SFPD@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 528, Alexandria, Virginia 22302.

All responses to this notice will be summarized and included in the request for Office of Management and Budget approval. All comments will be a matter of public record.

FOR FURTHER INFORMATION CONTACT: Requests for additional information or copies of this information collection should be directed to Patricia Davis at 703-305-2746.

SUPPLEMENTARY INFORMATION: Title: National Universal Product Code (UPC) Database.

Form Number: N/A.

OMB Number: 0584-0552.

Expiration Date: March 31, 2012.

Type of Request: Revision of a currently approved collection.

Abstract: The Special Supplemental Nutrition Program for Woman, Infants and Children (WIC), (Public Law 109-85), provides low-income pregnant, breastfeeding, and postpartum women, infants, and children up to age five with nutritious supplemental foods. The program also provides nutrition education and referrals to health and social services.

The WIC Program is administered by the USDA Food and Nutrition Service (FNS). FNS provides grant funding and issues regulations which are utilized by WIC State agencies to operate the WIC Program and distribute benefits through local WIC clinics. The program operates throughout the 50 States, in the District of Columbia, Guam, Puerto Rico, American Samoa, Commonwealth of the Northern Mariana Islands, the Virgin Islands, and in 34 Indian Tribal Organizations.

WIC State agencies are required to authorize eligible foods on their WIC food list by federal regulations at 7 CFR part 246. Under these regulations, State agencies must review food products for eligibility in accordance with federal regulations and State agency (SA) policies. State agencies are not required to authorize all food products eligible under Federal regulations, but generally select foods based on factors such as cost, availability and acceptability to participants. After review, the State agency develops a list of food items available to WIC participants for purchase. State agencies require Authorized Vendors (i.e., stores authorized to provide WIC foods) to ensure that only authorized food items are purchased. A few of these vendors have programmed their point of sale systems to identify WIC approved foods and their associated Universal Product Code (UPC) or Price Look-Up (PLU) code as individual products are scanned at the checkout; however, many vendors still rely on their checkout clerks to ensure only authorized WIC products are approved for purchase.

WIC State agencies operating WIC Electronic Benefit Transfer (EBT) systems provide their Authorized Vendors with an electronic file containing the State agency's current list of authorized foods. This food list is known as the Authorized Products List (APL). In State agencies that have implemented EBT systems, as products are scanned at the checkout lane, the UPC or PLU is matched to the State specific APL. Food items that match the APL, and which are presented in quantities less than or equal to the remaining benefit balance associated with the participant's WIC EBT card, are approved for purchase. Unmatched items, or items in excess of the available account balance, may not be purchased. Authorized WIC Vendors then submit an electronic claim for payment which is evaluated by the SA and is sometimes adjusted by the SA prior to making payment. Subsequent payment of an Authorized Vendor's claim for redemption of WIC benefits is made via an Automated Clearinghouse House electronic transfer.

The Healthy, Hunger-Free Kids Act of 2010 directs the Secretary of Agriculture to establish a National Universal Product Code (NUPC) database to be used by all WIC State agencies as they implement Electronic Benefit Transfer (EBT) statewide, which is a requirement of the law. As a result of this legislation, FNS has adopted a plan to expand the number of data elements contained in the existing NUPC database while simultaneously reducing the burden of manual data entry currently borne by WIC State agency employees tasked with populating the database. Planned NUPC database modifications and expansion activities are expected to allow for the storage and retrieval of additional data elements for each WIC authorized food to include: Nutrition facts panel, ingredients, allergies, gluten free status, special processing practices (e.g. Kosher or Halal), free form comments field at the Federal level, and all currently existing product identifier fields. Responsibility for populating the NUPC database, which currently resides with individual State agencies, will be shifted to an independent contractor who will serve as the single point of entry for all information entering the NUPC database to ensure that NUPC data is captured with a high level of accuracy while preserving data integrity in a standardized format. Currently it is anticipated that State agencies intending to utilize the NUPC database to create an initial APL may choose to provide only 5 data elements (i.e. UPC, Item Name, Package size, Container type, and National Category & Subcategory code) when adding new products to the NUPC database. In addition, State agencies which operate WIC EBT systems, or distribute an APL to their Authorized Vendors, will be asked to forward a copy of their APL to the NUPC database as changes occur.

The NUPC database will therefore provide all State agencies with access to a central repository containing comprehensive information about authorized WIC foods. State agencies are expected to use the NUPC database to create an initial list of authorized foods eligible for redemption by WIC Program participants. Subsequently, State agencies may use the NUPC database to maintain their list of authorized foods and to create an APL for distribution to Authorized Vendors operating in the EBT environment.

Affected Public: State and Tribal Governments. Respondent groups identified include all WIC State agencies currently operating WIC EBT systems, all WIC State agencies currently implementing WIC EBT systems, and all WIC State agencies which have requested funding to implement WIC EBT systems.

Estimated Number of Respondents (March 2012 to March 2015): The total estimated number of respondents is 17. This includes 10 WIC State agencies currently operating EBT systems, 3 WIC State agencies currently implementing WIC EBT systems, and 4 WIC State agencies which have requested funds for EBT implementation projects.

Estimated Number of Responses per Respondent: The WIC State agencies operating or implementing EBT systems will be asked to provide an electronic copy of their APL in the format specified in the ANSI standard X.9.93 2008 part 2 whenever the contents of the APL change. FNS estimates that each State agency will modify their respective APL's no more than 3 times per week which is equivalent to a maximum of 156 responses per year.

Estimated Total Annual Responses: 2,652 = 17 SA's * 3 submissions/week * 52 weeks/year.

Estimated Time per Response: 648.153 seconds (10.8 minutes or 0.180 hours). The estimated time per response is comprised of the following three components: 92.307 seconds (0.025641 hours) which represents a one-time expenditure of 4 hours per State agency per year to develop or maintain a software application for use transmitting the APL to FNS (amortized over 156 responses per year); 2 seconds (.000243 hours) per response to transmit each APL file electronically; and 553.846 seconds (0.153846 hours) which represents a recurring expenditure of 24 hours per State agency per year to correct or troubleshoot failed APL transmissions (amortized over 156 responses per year).

Estimated Total Annual Burden on Respondents: 28,641.6 minutes (477.36 hours). The table below provides an estimated total annual burden for each type of respondent.

Reporting Burden
Respondent | Estimated number respondent | Responses annually per respondent | Total annual responses | Estimated avg. number of hours per response | Estimated total hours
WIC State agencies operating EBT systems. | 10 | 156 | 1560 | 0.180 | 280.80
WIC State agencies implementing EBT systems | 3 | 156 | 468 | 0.180 | 84.24
WIC State agencies requesting implementation funds | 4 | 156 | 624 | 0.180 | 112.32
Total Reporting Burden | 17 |  | 2652 |  | 477.36

Dated: September 12, 2011.
Audrey Rowe,
Administrator, Food and Nutrition Service.

[FR Doc. 2011-24575 Filed 9-23-11; 8:45 am]

BILLING CODE 3410-30-P